DEPARTMENT OF HEALTH AND HUMAN SERVICES

Food and Drug Administration

Manufacturing Subcommittee of the Advisory Committee for Pharmaceutical Science; Cancellation

AGENCY: Food and Drug Administration, HHS.

ACTION: Notice.

SUMMARY: The Food and Drug Administration (FDA) is cancelling the meeting of the Manufacturing Subcommittee of the Advisory Committee for Pharmaceutical Science scheduled for March 21, 2003. This meeting was announced in the Federal Register of February 12, 2003 (68 FR 7128).

FOR FURTHER INFORMATION CONTACT: Kathleen Reedy, Center for Drug Evaluation and Research (HFD-21), Food and Drug Administration, 5600 Fishers Lane, Rockville, MD 20857, 301-827-7001, or FDA Advisory Committee Information Line, 1-800-741-8138 (301-443-0572 in the Washington, DC area), code 12539.

Dated: March 19, 2003.
Linda Arey Skladany,
Associate Commissioner for External Relations.

[FR Doc. 03-7085 Filed 3-20-03; 3:48 pm]

BILLING CODE 4160-01-S